DEPARTMENT OF THE INTERIOR

National Park Service

[NPS-WASO-NAGPRA-NPS0038783; PPWOCRADN0-PCU00RP14.R50000]

Notice of Intended Repatriation: Autry Museum of the American West and California, Los Angeles, CA, and California Department of Parks and Recreation, Sacramento, CA

AGENCY: National Park Service, Interior.

ACTION: Notice.

SUMMARY: In accordance with the Native American Graves Protection and Repatriation Act (NAGPRA), the Autry Museum of the American West jointly with California Department of Parks and Recreation intends to repatriate certain cultural items that meet the definition of unassociated funerary objects and that have a cultural affiliation with the Indian Tribes or Native Hawaiian organizations in this notice.

DATES: Repatriation of the cultural items in this notice may occur on or after November 4, 2024.

ADDRESSES: Karimah Richardson, M.Phil., RPA, Associate Curator of Anthropology and Repatriation Supervisor, Autry Museum of the American West, 4700 Western Heritage Way, Los Angeles, CA 90027, telephone (323) 495-4203, email krichardson@theautry.org and Leslie Hartzell, NAGPRA Coordinator, at California State Parks, 715 P Street, Suite 13, Sacramento, CA 95814, telephone (415) 831-2700, email leslie.hartzell@parks.ca.gov.

SUPPLEMENTARY INFORMATION: This notice is published as part of the National Park Service's administrative responsibilities under NAGPRA. The determinations in this notice are the sole responsibility of the Autry Museum of the American West jointly with California Department of Parks and Recreation, and additional information on the determinations in this notice, including the results of consultation, can be found in the summary or related records. The National Park Service is not responsible for the determinations in this notice.

Abstract of Information Available

A total of one cultural item has been requested for repatriation. The one unassociated funerary object is one lot of cordage. In an unknown year, Mr. Willy Stahl (830.G) collected material from Mishopshnow (CA-SBa-7), Carpinteria, Carpinteria State Beach, in Santa Barbara County, CA. Mr. Stahl gifted the cultural item to the Southwest Museum (now part of the Autry Museum of the American West) in 1942. Mishopshnow (CA-SBa-7) is a Chumash village and cemetery site that dates to the Late Period (1100 AD to contact).

A total of one cultural item has been requested for repatriation. The one unassociated funerary object is one fishhook. In 1930, Mr. Bruce Bryan (1864.G) collected the cultural item from a burial at Mishopshnow (CA-SBA-7) Carpinteria, Carpinteria State Beach, in Santa Barbara County, CA. Mr. Bryan gifted the cultural item in 1966 to the Southwest Museum.

A total of eight cultural items have been requested for repatriation. The eight unassociated funerary objects are eight trade beads. The trade beads were found in the museum collection (5.C.98) with no object number in a box with cultural material from Misphopshnow/Carpinteria from the Mr. Willy Stahla (830.G) collection. Thus, it is likely they came from that collection, exact collection number could not be found.

A total of 186 cultural items have been requested for repatriation. The 186 unassociated funerary objects are one lot of shell beads (missing), 137 shell beads, 45 shell beads, and three ochre fragments. At an unknown date, Mr. Harry Clayton Davis (1052.G), and members of the Archaeological Society of Southern California (ASSC), a non-professional group, collected cultural items from a sandbank at Mishopshnow Village (CA-SBa-7) in Carpinteria, Carpinteria State Beach, Santa Barbara County, CA. Mr. Davis's wife gifted the cultural items to the Southwest Museum in 1946.

A total of five cultural items have been requested for repatriation. The five unassociated funerary objects are one bone bead and four shell beads. At an unknown date, Mr. Francis H. Elmore collected cultural items from near the tar pits at Mishopshnow (CA-SBa-7), in Carpinteria, Carpinteria State Beach, Santa Barbara County, CA. Mr. Elmore gifted the cultural items to the Southwest Museum in 1959.

Determinations

The Autry Museum of the American West jointly with California Department of Parks and Recreation has determined that:

• The 201 unassociated funerary objects described above are reasonably believed to have been placed intentionally with or near individual human remains, and are connected, either at the time of death or later as part of the death rite or ceremony and are believed, by a preponderance of the evidence, to have been removed from a specific burial site of an individual or individuals with cultural affiliation to an Indian Tribe or Native Hawaiian organization.

• There is a reasonable connection between the cultural items described in this notice and the Santa Ynez Band of Chumash Mission Indians of the Santa Ynez Reservation, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after November 4, 2024. If competing requests for repatriation are received, the Autry Museum of the American West jointly with California Department of Parks and Recreation must determine the most appropriate requestor prior to repatriation. Requests for joint repatriation of the cultural items are considered a single request and not competing requests. The Autry Museum of the American West jointly with California Department of Parks and Recreation is responsible for sending a copy of this notice to the Indian Tribes and Native Hawaiian organizations identified in this notice and to any other consulting parties.

Authority: Native American Graves Protection and Repatriation Act, 25 U.S.C. 3004 and the implementing regulations, 43 CFR 10.9.

Dated: September 24, 2024.
Melanie O'Brien,
Manager, National NAGPRA Program.

[FR Doc. 2024-22884 Filed 10-3-24; 8:45 am]

BILLING CODE 4312-52-P